DEPARTMENT OF COMMERCE

National Oceanic and Atmospheric Administration

RIN 0648-XD457

Atlantic Highly Migratory Species; Atlantic Shark Management Measures; 2015 Research Fishery

AGENCY: National Marine Fisheries Service (NMFS), National Oceanic and Atmospheric Administration (NOAA), Commerce.

ACTION: Notice of intent; request for applications.

SUMMARY: NMFS announces its second request for applications for the 2015 shark research fishery from commercial shark fishermen with directed or incidental shark limited access permits. In this second request, NMFS is specifically requesting applications only from commercial shark fishermen who are fishing or plan to fish in the Gulf of Mexico fishing region. The shark research fishery allows for the collection of fishery-dependent and biological data for future stock assessments to meet the shark research objectives of the Agency. The only commercial vessels authorized to land sandbar sharks are those participating in the shark research fishery. Shark research fishery permittees may also land other large coastal sharks (LCS), small coastal sharks (SCS), and pelagic sharks. Commercial shark fishermen who are interested in participating in the shark research fishery need to submit a completed Shark Research Fishery Permit Application in order to be considered.

DATES: Shark Research Fishery Applications must be received no later than 5 p.m., local time, on February 5, 2015.

ADDRESSES: Please submit completed applications to the HMS Management Division at:

• Mail: Attn: Guý DuBeck, HMS Management Division (F/SF1), NMFS, 1315 East-West Highway, Silver Spring, MD 20910.

• Fax: (301) 713-1917.

For copies of the Shark Research Fishery Permit Application, please write to the HMS Management Division at the address listed above, call (301) 427-8503 (phone), or fax a request to (301) 713-1917. Copies of the Shark Research Fishery Application are also available at the HMS Web site at http://www.nmfs.noaa.gov/sfa/hms/index.htm. Additionally, please be advised that your application may be released under the Freedom of Information Act.

FOR FURTHER INFORMATION CONTACT: Karyl Brewster-Geisz, Delisse Ortiz, or Guý DuBeck, at (301) 427-8503 (phone) or (301) 713-1917 (fax).

SUPPLEMENTARY INFORMATION: The Atlantic shark fisheries are managed under the authority of the Magnuson-Stevens Fishery Conservation and Management Act (Magnuson-Stevens Act). The 2006 Consolidated HMS Fishery Management Plan (FMP) is implemented by regulations at 50 CFR part 635.

The shark research fishery was established, in part, to maintain time series data for stock assessments and to meet NMFS' research objectives. Since the shark research fishery was established in 2008, the research fishery has allowed for: The collection of fishery dependent data for current and future stock assessments; the operation of cooperative research to meet NMFS' ongoing research objectives; the collection of updated life-history information used in the sandbar shark (and other species) stock assessment; the collection of data on habitat preferences that might help reduce fishery interactions through bycatch mitigation; and the evaluation of the utility of the mid-Atlantic closed area on the recovery of dusky sharks and collection of hook-timer and pop-up satellite archival tag (PSAT) information to determine at-vessel and post-release mortality of dusky sharks.

On October 31, 2014 (79 FR 64750), NMFS published a notice requesting applications for participation in the 2015 shark research fishery from commercial shark fishermen. NMFS received a total of seven applications, six of which were qualified participants distributed among four fishing regions: North Carolina, the east coast of Florida, the Florida Keys, and the South Atlantic. All six qualified applicants were selected to participate in the 2015 shark research fishery. However, none of the qualified applicants were located in the Gulf of Mexico fishing region. Given the need to collect information that will both aid future stock assessments and management measures in the Gulf of Mexico fishing region, NMFS is providing a second notice requesting applications from commercial shark fishermen who fish or plan to fish in the Gulf of Mexico region for participation in the 2015 shark research fishery. The October 2014 notice contains the relevant information about the shark research fishery application process, research objectives, selection criteria, and available quota, which remain applicable and are incorporated except as modified herein. The application deadline is being adjusted as specified in this notice to allow for additional applications. This notice also provides additional information about meetings and procedures for applicants selected through this second call for applications. For other background details, applicants should refer to the October 2014 notice.

The shark research fishery permit(s) issued to the fisherman fishing in the Gulf of Mexico region will have the same permit conditions as those issued in the other fishing regions. Those conditions will be discussed in a Captain's Meeting to be held in early January 2015 and announced in another notice.

In order to participate in the shark research fishery, commercial shark fishermen need to submit a completed Shark Research Fishery Application by the deadline noted above (see DATES) showing that the vessel and owner(s) meet the specific criteria outlined below.

Research Objectives

The shark research fishery objectives were specified in the October 31, 2014 (79 FR 64750) notice requesting applications for participation in the 2015 shark research fishery from commercial shark fishermen and continue to apply.

Selection Criteria

The shark research fishery selection criteria were specified in the October 31, 2014 (79 FR 64750) notice requesting applications for participation in the 2015 shark research fishery from commercial shark fishermen and continue to apply, except that applications are requested only from commercial fishermen who fish or plan to fish in the Gulf of Mexico fishing region.

Selection Process

The shark research fishery selection process was specified in the October 31, 2014 (79 FR 64750) notice requesting applications for participation in the 2015 shark research fishery from commercial shark fishermen and applies here except as specified herein.

Once the selection process is complete, NMFS will notify the selected applicants and issue the shark research fishery permits. The shark research fishery permits will be valid only in calendar year 2015. NMFS held mandatory permit holders' meetings before observers were placed on vessels in both 2013 (78 FR 14515; March 6, 2013) and 2014 (79 FR 12155; March 4, 2014). NMFS intends to hold another such meeting again in January 2015 for commercial fishermen who have already been selected and issued a 2015 shark research fishery permit. Applicants selected for the Gulf of Mexico fishing region through this notice are encouraged to call in and listen to the discussion. Once the selected participant(s) from the Gulf of Mexico region has been issued a 2015 shark research fishery permit, NMFS will contact them to discuss the research objectives and protocols of the 2015 shark research fishery to minimize any delays in collecting information in the Gulf of Mexico fishing region and to update them with information from permit holders' meeting as appropriate. Once the fishery starts, the shark research fishery permit holders must contact the NMFS observer coordinator to arrange the placement of a NMFS-approved observer for each shark research trip.

A shark research fishery permit will only be valid for the vessel and owner(s) and terms and conditions listed on the permit, and, thus, cannot be transferred to another vessel or owner(s). Issuance of a shark research permit does not guarantee that the permit holder will be assigned a NMFS-approved observer on any particular trip. Rather, issuance indicates that a vessel may be issued a NMFS-approved observer for a particular trip, and on such trips, may be allowed to harvest Atlantic sharks, including sandbar sharks, in excess of the retention limits described in 50 CFR 635.24(a). These retention limits will be based on available quota, number of vessels participating in the 2015 shark research fishery, the research objectives set forth by the shark board, the extent of other restrictions placed on the vessel, and may vary by vessel and/or location. When not operating under the auspices of the shark research fishery, the vessel would still be able to land LCS, SCS, and pelagic sharks subject to existing retention limits on trips without a NMFS-approved observer.

NMFS annually invites commercial shark permit holders (directed and incidental) to submit an application to participate in the shark research fishery. Permit applications can be found on the HMS Management Division's Web site at http://www.nmfs.noaa.gov/sfa/hms/index.htm or by calling (301) 427-8503. Final decisions on the issuance of a shark research fishery permit will depend on the submission of all required information by the deadline (see DATES), and NMFS' review of applicant information as outlined above. The 2015 shark research fishery will start after the opening of the shark fishery and under available quotas as published in a separate Federal Register final rule.

Dated: January 14, 2015.
Emily H. Menashes,
Acting Director, Office of Sustainable Fisheries, National Marine Fisheries Service.

[FR Doc. 2015-00808 Filed 1-20-15; 8:45 am]

BILLING CODE 3510-22-P